SMALL BUSINESS ADMINISTRATION

[Disaster Declaration #21450 and #21451; Washington Disaster Number WA-20025]

Administrative Declaration Amendment of a Disaster for the State of Washington

AGENCY: U.S. Small Business Administration.

ACTION: Amendment 1.

SUMMARY: This is an amendment of the Administrative declaration of disaster for the State of Washington dated February 24, 2026.

Incident: 2025 Severe Winter Storms.

DATES: Issued on February 25, 2026.

Incident Period: December 5, 2025 through December 25, 2025.

Physical Loan Application Deadline Date: April 27, 2026.

Economic Injury (EIDL) Loan Application Deadline Date: November 24, 2026.

ADDRESSES: Visit the MySBA Loan Portal at https://lending.sba.gov to apply for a disaster assistance loan.

FOR FURTHER INFORMATION CONTACT: Jennifer Talarico, Office of Disaster Recovery and Resilience, U.S. Small Business Administration, 409 3rd Street SW, Suite 6050, Washington, DC 20416, (202) 205-6734.

SUPPLEMENTARY INFORMATION: The notice of an Administrative declaration for the State of Washington, dated February 24, 2026, is hereby amended to include the following area as adversely affected by the disaster.

Contiguous County:

Washington: San Juan.

All other information in the original declaration remains unchanged.

(Catalog of Federal Domestic Assistance Number 59008)

(Authority:13 CFR 123.(b).)

James Stallings,
Associate Administrator, Office of Disaster Recovery & Resilience.

[FR Doc. 2026-03986 Filed 2-26-26; 8:45 am]

BILLING CODE 8026-09-P